DEPARTMENT OF ENERGY

Federal Energy Regulatory Commission

Combined Notice of Filings #2

Take notice that the Commission received the following exempt wholesale generator filings:

Docket Numbers: EG24-222-000.

Applicants: Solar Star 3, LLC.

Description: Solar Star 3, LLC submits Notice of Self-Certification of Exempt Wholesale Generator Status.

Filed Date: 7/9/24.

Accession Number: 20240709-5054.

Comment Date: 5 p.m. ET 7/30/24.

Docket Numbers: EG24-223-000.

Applicants: Solar Star 4, LLC.

Description: Solar Star 4, LLC submits Notice of Self-Certification of Exempt Wholesale Generator Status.

Filed Date: 7/9/24.

Accession Number: 20240709-5056.

Comment Date: 5 p.m. ET 7/30/24.

Docket Numbers: EG24-224-000.

Applicants: Buckeye Plains Solar Project, LLC.

Description: Buckeye Plains Solar Project, LLC submits Notice of Self-Certification of Exempt Wholesale Generator Status.

Filed Date: 7/9/24.

Accession Number: 20240709-5078.

Comment Date: 5 p.m. ET 7/30/24.

Docket Numbers: EG24-225-000.

Applicants: Pickaway County Solar Project, LLC.

Description: Pickaway County Solar Project, LLC submits Notice of Self-Certification of Exempt Wholesale Generator Status.

Filed Date: 7/9/24.

Accession Number: 20240709-5095.

Comment Date: 5 p.m. ET 7/30/24.

Take notice that the Commission received the following Complaints and Compliance filings in EL Dockets:

Docket Numbers: EL24-124-000.

Applicants: Affirmed Energy LLC v. PJM Interconnection, LLC.

Description: Complaint of Affirmed Energy LLC v. PJM Interconnection, LLC.

Filed Date: 7/5/24.

Accession Number: 20240705-5010.

Comment Date: 5 p.m. ET 7/19/24.

Take notice that the Commission received the following electric rate filings:

Docket Numbers: ER10-2042-052; ER10-1862-045; ER10-1863-014; ER10-1893-045; ER10-1934-045; ER10-1938-046; ER10-1942-043; ER10-2985-049; ER10-3049-050; ER10-3051-050; ER11-4369-030; ER16-2218-031; ER17-696-031; ER23-944-008.

Applicants: Calpine Community Energy, LLC, Calpine Energy Solutions, LLC, North American Power Business, LLC, North American Power and Gas, LLC, Champion Energy, LLC, Champion Energy Services, LLC, Champion Energy Marketing LLC, Calpine Construction Finance Co., L.P., Calpine Power America—CA, LLC, CES Marketing IX, LLC, CES Marketing X, LLC, Pine Bluff Energy, LLC, Power Contract Financing, L.L.C., Calpine Energy Services, L.P.

Description: Triennial Market Power Analysis for Region of Calpine Energy Services, L.P. et al.

Filed Date: 7/1/24.

Accession Number: 20240701-5480.

Comment Date: 5 p.m. ET 8/30/24.

Docket Numbers: ER10-2822-026; ER12-2076-008; ER12-2077-008; ER12-2078-008; ER12-2081-008; ER12-2083-008; ER12-2084-008; ER12-2086-008; ER12-2097-008; ER12-2101-008; ER12-2102-009; ER12-2106-008; ER12-2107-008; ER12-2108-008; ER12-2109-008; ER16-1250-020.

Applicants: Avangrid Renewables, LLC, Northern Iowa Windpower II LLC, MinnDakota Wind LLC, Trimont Wind I LLC, Rugby Wind LLC, New Harvest Wind Project LLC, Moraine Wind II LLC, Moraine Wind LLC, Flying Cloud Power Partners, LLC, Farmers City Wind, LLC, Elm Creek Wind II LLC, Elm Creek Wind, LLC, Buffalo Ridge II LLC, Buffalo Ridge I LLC, Barton Windpower LLC, Atlantic Renewable Projects II LLC.

Description: Triennial Market Power Analysis for Central Region of Atlantic Renewable Projects II LLC et al.

Filed Date: 7/1/24.

Accession Number: 20240701-5477.

Comment Date: 5 p.m. ET 8/30/24.

Docket Numbers: ER19-158-015; ER10-2421-013; ER10-2616-027; ER10-3247-016; ER11-2457-013; ER10-2586-003; ER11-4400-024; ER12-75-016; ER12-1769-015; ER12-2250-014; ER12-2251-014; ER12-2252-015; ER12-2253-014; ER14-883-019; ER14-922-009; ER14-924-009; ER14-1569-020; ER14-2245-014; ER15-1599-020; ER15-1596-020; ER15-2535-006; ER19-102-013; ER19-2803-012; ER11-2449-004; ER19-2807-012; ER19-2809-012; ER19-2810-012; ER19-2811-012.

Applicants: Viridian Energy, LLC, Viridian Energy PA, LLC, Viridian Energy NY, LLC, Energy Rewards, LLC, Connecticut Gas & Electric, Inc., Cincinnati Bell Energy LLC, Luminant Energy Company LLC, Midwest Electric Power, Inc., Luminant Commercial Asset Management LLC, Dynegy Energy Services (East), LLC, TriEagle Energy, LP, Dynegy Energy Services, LLC, Illinois Power Resources Generating, LLC, Illinois Power Generating Company, Illinois Power Marketing Company, Public Power & Utility of Maryland, LLC, Public Power (PA), LLC, Public Power & Utility of NY, Inc, Everyday Energy NJ, LLC, Everyday Energy, LLC, Public Power, LLC, Dynegy Power Marketing, LLC, Dynegy Midwest Generation, LLC, Massachusetts Gas & Electric, Inc., Electric Energy, Inc., Dynegy Marketing and Trade, LLC, Energy Services Providers, LLC., Ambit Northeast, LLC.

Description: Triennial Market Power Analysis for Central Region of Ambit Northeast, LLC, et al.

Filed Date: 6/28/24.

Accession Number: 20240628-5410.

Comment Date: 5 p.m. ET 8/27/24.

Docket Numbers: ER19-1280-008; ER10-2407-012; ER10-2424-012; ER10-2425-014; ER13-1816-022; ER17-554-002; ER17-1316-010; ER18-1186-009; ER23-1582-003; ER23-1583-002; ER23-1584-003; ER24-560-001; ER24-563-001; ER24-1737-001; ER24-1738-001.

Applicants: Ragsdale Solar, LLC, Hickory Solar LLC, Crooked Lake Solar II LLC, Carpenter Wind Farm LLC, Pearl River Solar Park LLC, Indiana Crossroads Wind Farm II LLC, Crooked Lake Solar, LLC, Turtle Creek Wind Farm LLC, Quilt Block Wind Farm LLC, Wolf Run Energy LLC, Sustaining Power Solutions LLC, Pioneer Prairie Wind Farm I, LLC, Rail Splitter Wind Farm, LLC, Lost Lakes Wind Farm LLC, Broadlands Wind Farm LLC.

Description: Triennial Market Power Analysis for Central Region and Notice of Change in Status of Broadlands Wind Farm LLC et al.

Filed Date: 7/1/24.

Accession Number: 20240701-5479.

Comment Date: 5 p.m. ET 8/30/24.

Docket Numbers: ER23-2837-001; ER23-2838-001.

Applicants: BCD 2023 Fund 1 Lessee, LLC, Earp Solar, LLC.

Description: Notice of Non-Material Change in Status of Earp Solar, LLC et al.

Filed Date: 7/9/24.

Accession Number: 20240709-5085.

Comment Date: 5 p.m. ET 7/30/24.

Docket Numbers: ER24-548-001; ER10-3057-006; ER14-1348-008; ER14-1349-008.

Applicants: Union Carbide Corporation, The Dow Chemical Company, Dow Pipeline Company, Dow Hydrocarbons and Resources LLC.

Description: Triennial Market Power Analysis for Central Region of Dow Hydrocarbons and Resources LLC, et al.

Filed Date: 7/2/24.

Accession Number: 20240702-5237.

Comment Date: 5 p.m. ET 9/3/24.

Docket Numbers: ER24-1544-002.

Applicants: Duke Energy Indiana, LLC.

Description: Tariff Amendment: DEI—Amendment Filing to be effective 7/1/2023.

Filed Date: 7/9/24.

Accession Number: 20240709-5082.

Comment Date: 5 p.m. ET 7/30/24.

Docket Numbers: ER24-1641-000.

Applicants: Fuse Energy NY LLC.

Description: Supplement to the 03/28/2024 Market Based Rate Authority tariff filing of Fuse Energy NY LLC.

Filed Date: 7/5/24.

Accession Number: 20240705-5166.

Comment Date: 5 p.m. ET 7/26/24.

Docket Numbers: ER24-2477-000.

Applicants: American Electric Power Service Corporation, PJM Interconnection, L.L.C.

Description: § 205(d) Rate Filing: American Electric Power Service Corporation submits tariff filing per 35.13(a)(2)(iii: AEP submits ILDSA, SA No. 1679 to be effective 10/1/2024.

Filed Date: 7/9/24.

Accession Number: 20240709-5045.

Comment Date: 5 p.m. ET 7/30/24.

Docket Numbers: ER24-2478-000.

Applicants: Soldier Creek Wind, LLC.

Description: Tariff Amendment: Notice of Cancellation of Interim Shared Facilities Agreement to be effective 7/10/2024.

Filed Date: 7/9/24.

Accession Number: 20240709-5046.

Comment Date: 5 p.m. ET 7/30/24.

Docket Numbers: ER24-2479-000.

Applicants: Desert Quartzite, LLC.

Description: § 205(d) Rate Filing: 2024-07-09 Desert Quartzite Cotenancy, Common Assets & Common Use Agreement to be effective 7/22/2024.

Filed Date: 7/9/24.

Accession Number: 20240709-5047.

Comment Date: 5 p.m. ET 7/30/24.

Docket Numbers: ER24-2480-000.

Applicants: Soldier Creek Wind, LLC.

Description: § 205(d) Rate Filing: Second Amended Shared Interconnection Facilities Co-Owners Agreement to be effective 7/10/2024.

Filed Date: 7/9/24.

Accession Number: 20240709-5048.

Comment Date: 5 p.m. ET 7/30/24.

The filings are accessible in the Commission's eLibrary system by clicking on the links or querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 9, 2024.
Debbie-Anne A. Reese,
Acting Secretary.

[FR Doc. 2024-15523 Filed 7-15-24; 8:45 am]

BILLING CODE 6717-01-P